DEPARTMENT OF TRANSPORTATION

Federal Aviation Administration

Notice of Intent To Prepare an Environmental Impact Statement (EIS)

AGENCY: Federal Aviation Administration, DOT.

ACTION: Notice of Intent to Prepare an Environmental Impact Statement (EIS) and Initiation of Public and Agency Scoping for the Hawai'i Volcanoes National Park Air Tour Management Plan.

SUMMARY: The Federal Aviation Administration (FAA), in cooperation with the National Park Service (NPS), began development of an Air Tour Management Plan (ATMP) and associated Environmental Assessment (EA) for Hawai'i Volcanoes National Park in February 2003. The ATMP is being established pursuant to the National Parks Air Tour Management Act of 2000 (Pub. L. 106-181) and its implementing regulations contained in Title 14, Code of Federal Regulations, Part 136, National Parks Air Tour Management. The objective of the ATMP is to develop acceptable and effective measures to mitigate or prevent the significant adverse impacts, if any, of commercial air tour operations upon the natural resources, cultural resources, and visitor experiences of Hawai'i Volcanoes National Park.

The FAA and NPS have now decided to proceed with development of an Environmental Impact Statement (EIS) for this project. This decision is based on information received through the EA scoping process, the environmental analysis completed by the Agencies to date, the consideration of preliminary ATMP alternatives, and through consultations conducted pursuant to Section 106 of the National Historic Preservation Act.

By this notice the FAA and NPS are initiating a 30-day scoping period for this EIS. The FAA and NPS are now inviting the public, agencies, and other interested parties to provide written comments, suggestions, and input regarding the scope of issues and the identification of significant issues to be addressed in the Environmental Impact Statement (EIS). Comments previously submitted in response to the EA scoping will not need to be resubmitted, as they will be considered as part of the EIS process and record. No additional scoping meetings are scheduled.

DATES: The 45-day scoping comment period will commence upon publication of this Notice. Please submit any written response you may have within 45 days from the date of this Notice or no later than September 15, 2005.

ADDRESSES: Please address your written comments to: Docket Management System, Doc No. FAA-2005-21938, U.S. Department of Transportation, Room Plaza 401, 400 Seventh Street, SW., Washington, DC 20590-0001.

You must identify the docket number FAA-2005-21938 at the beginning of your comments. If you wish to receive confirmation that FAA received your comments, include a self-addressed, stamped postcard. You may review the public docket containing comments in person in the Dockets Office between 9 a.m. and 5 p.m., Monday through Friday, except Federal holidays. The Dockets Office is on the plaza level of the NASSIF Building at the Department of Transportation at the above address.

You may also submit comments and review public dockets on the Internet at http://dms.dot.gov. Comments previously received in response to the EA scoping may also be reviewed at this Web site under Docket No. FAA-2004-17174.

FOR FURTHER INFORMATION CONTACT: Brian Armstrong, Air Tour Management Plan Program Manager, Executive Resource Staff, AWP-4, Federal Aviation Administration, Western-Pacific Region. Mailing address: P.O. Box 92007, Los Angeles, California 90009-2007. Telephone: (310) 725-3818. Street address: 15000 Aviation Boulevard, Lawndale, California 90261. E-mail: Brian.Armstrong@faa.gov. Park specific information can be obtained from Cindy Orlando, Superintendent, Hawai'i Volcanoes National Park, P.O. Box 52, Volcanoes, HI 96718. Telephone: (808) 985-6025. E-mail: Cindy_Orlando@nps.gov.

SUPPLEMENTARY INFORMATION: In developing an ATMP and any associated rulemaking actions, the FAA is required to comply with the National Environmental Policy Act of 1969 (NEPA), which calls on Federal agencies to consider environmental issues as part of their decision making process. For the purposes of compliance with NEPA on this project, the FAA is the Lead Agency and the NPS is a Cooperating Agency. The ATMP Program Office and the NPS Natural Sounds Program Office are responsible for the overall implementation of the ATMP Program. Brian Armstrong is the FAA’s principal program manager responsible for all parts of the EIS and performance of required consultation regarding cultural and historic resources and endangered and threatened species. For the park, Superintendent Cindy Orlando is responsible for park operations and management and for recommending the draft and final EIS and Record of Decision to the Pacific West Regional Director.

The EIS is being prepared in accordance with FAA Order 1050.1E, Environmental Impacts: Policies and Procedures, and NPS Director's Order # 12: Conservation Planning, Environmental Impact Analysis, and Decision-making, and NPS Management Policies. The FAA is now inviting the public, agencies, and other interested parties to provide written comments, suggestions, and input regarding: (1) The scope, issues, and concerns related to the development of the ATMP for Hawai'i Volcanoes National Park; (2) the scope of issues and the identification of significant issues regarding commercial air tours and their potential impacts to be addressed in the environmental process; (3) the potential effects of commercial air tours on natural resources, cultural resources, and the visitor experience; (4) preliminary ATMP alternatives; and, (5) past, present, and reasonably foreseeable future actions which, when considered with ATMP alternatives, may result in significant cumulative impacts. The FAA requests that comments be as specific as possible in response to actions that are being proposed under this notice.

Scoping documents that describe the Hawai’i Volcanoes National Park ATMP project in greater detail and the preliminary ATMP alternatives under consideration are available at the following locations:

• FAA Air Tour Management Plan Program Web site, http://www.atmp.faa.gov/Hawaii_Volcanoes.htm

• Hawai’i Volcanoes National Park, 1 Crater Rim Road, Hawaii National Park, HI 96718

• National Park Service, Pacific Islands Network, 300 Ala Moana Ave., Box 50165, Honolulu, HI 96850

• Hawai’i State Library, Hawai’i Documents Center—478 South King Street, Honolulu, HI 96813

• Bond Memorial Public Library—3903 Akoni Pule Hwy, Kapaau, HI 96755

• Hilo Public Library—300 Waianuenue Avenue, Hilo, HI 96720

• Holualoa Public Library—76-5936 Mamalahoa Highway, Holualoa, HI 96725

• Honoka’a Public Library—45-3380 Mamane Street, Bldg. #3, Honoka’a, HI 96727

• Kailua-Kona Public Library—75-138 Hualalai Road, Kailua-Kona, HI 96740

• Kea’au Public Library—16-571 Kea’au-Pahoa Road, Kea’au, HI 96749

• Kealakekua Public Library—Mamalahoa Hwy, Kealakekua, HI 96750

• Laupahoehoe Public Library—35-2065 Old Mamalahoa Hwy, Laupahoehoe, HI 96764

• Mountain View Public Library—1235 Volcano, Mountain View, HI 96771

• Na’alehu Public Library—5669 Mamalahoa Hwy, Na’alehu, HI 96771

• Pahala Public Library—315 Pikake St., Pahala, HI 96777

• Thelma Parker Public Library—67-1209 Mamalahoa Highway, Kamuela, HI 96743-8429

Issued in Los Angeles, CA on July 25, 2005.
Brian Q. Armstrong,
FAA, Air Tour Management Plan Program Manager.

[FR Doc. 05-15178 Filed 8-1-05; 8:45 am]

BILLING CODE 4910-13-P